DEPARTMENT OF ENERGY

Western Area Power Administration

Provo River Project—Rate Order No. WAPA-221

AGENCY: Western Area Power Administration, DOE.

ACTION: Notice of proposed formula rate for power service.

SUMMARY: The Colorado River Storage Project Management Center (CRSP MC) of the Western Area Power Administration (WAPA) proposes a new formula rate for the Provo River Project (PRP) power service. The existing rate for this service expires on March 31, 2025. This rate action proposes no change to the existing formula rate under Rate Schedule PR-2 other than extending the effective date for a 5-year period through March 31, 2030.

DATES: A consultation and comment period will begin October 15, 2024 and end November 14, 2024. CRSP MC will accept written comments any time during the consultation and comment period.

ADDRESSES: Written comments and requests to be informed of Federal Energy Regulatory Commission (FERC) actions concerning the proposed formula rate submitted by WAPA to FERC for approval should be sent to: Rodney Bailey, CRSP Manager, CRSP MC, Western Area Power Administration, 1800 South Rio Grande Drive, Montrose, CO 81401, or email: CRSPMC-rateadj@wapa.gov. The CRSP MC will post information about the proposed formula rate and written comments received to its website at: www.wapa.gov/about-wapa/regions/crsp/rates/.

FOR FURTHER INFORMATION CONTACT: Tamala Gheller, Rates Manager, CRSP MC, Western Area Power Administration, (970) 240-6545 or email: gheller@wapa.gov.

SUPPLEMENTARY INFORMATION: On June 10, 2020, FERC approved and confirmed Rate Schedule PR-2 under Rate Order No. WAPA-189 on a final basis through March 31, 2025.¹ This schedule applies to PRP power service.

¹ Order Confirming and Approving Rate Schedule on a Final Basis, FERC Docket No. EF20-1-000.

The existing formula rate provides sufficient revenue to recover annual costs within the cost recovery criteria set forth in Department of Energy (DOE) Order RA 6120.2. The proposed rate continues the formula-based methodology that includes an annual update to the financial data in the rate formula. CRSP MC intends the proposed formula-based rate to go into effect April 1, 2025. The proposed formula rate would remain in effect until March 31, 2030, or until WAPA changes the formula rate through another public rate process pursuant to 10 CFR part 903, whichever occurs first.

The Deer Creek Dam, Reservoir, and Power Plant are components of the Deer Creek Division of the PRP, located on the Provo River in Utah. The marketing plan for the PRP was published in the Federal Register (88 FR 16433) on March 17, 2023. New contracts are effective October 1, 2024, through September 30, 2054. This marketing plan sets the parameters for WAPA to market the output of the PRP. Final allocations of PRP power, as published in the Federal Register (89 FR 23994) on April 5, 2024, were provided to Heber Light and Power and seven members of Utah Associated Municipal Power Systems and Utah Municipal Power Agency (Customers) in the Provo River drainage area.

The Customers purchase all power generation from the project and pay the annual revenue requirement in monthly installment payments based on the estimates of operation, maintenance, and capitalized replacement expenses for the Deer Creek Power Plant. The payments are not dependent upon the power made available for sale or the rate of generation each year. CRSP MC reconciles the estimate to actual expenses at the end of the fiscal year and includes the difference in the next year's annual revenue requirement.

Legal Authority

Existing DOE procedures for public participation in power and transmission rate adjustments (10 CFR part 903) were published on September 18, 1985, and February 21, 2019.² The proposed action constitutes a minor rate adjustment, as defined by 10 CFR 903.2(e). In accordance with 10 CFR 903.15(a) and 903.16(a), CRSP MC has determined it is not necessary to hold public information and public comment forums for this rate action but is initiating a 30-day consultation and comment period to give the public an opportunity to comment on the proposed formula rate. CRSP MC will review and consider all timely public comments at the conclusion of the consultation and comment period and make amendments or adjustments to the proposal as appropriate. Proposed rates will then be approved on an interim basis.

² 50 FR 37835 (Sept. 18, 1985) and 84 FR 5347 (Feb. 21, 2019).

WAPA is establishing the formula rate for the PRP in accordance with section 302 of the DOE Organization Act (42 U.S.C. 7152).³

³ This Act transferred to, and vested in, the Secretary of Energy the power marketing functions of the Secretary of the Department of the Interior and the Bureau of Reclamation (Reclamation) under the Reclamation Act of 1902 (ch. 1093, 32 Stat. 388), as amended and supplemented by subsequent laws, particularly section 9(c) of the Reclamation Project Act of 1939 (43 U.S.C. 485h(c)); and other acts that specifically apply to the project involved.

By Delegation Order No. S1-DEL-RATES-2016, effective November 19, 2016, the Secretary of Energy delegated: (1) the authority to develop power and transmission rates to the WAPA Administrator; (2) the authority to confirm, approve, and place such rates into effect on an interim basis to the Deputy Secretary of Energy; and (3) the authority to confirm, approve, and place into effect on a final basis, or to remand or disapprove such rates, to FERC. By Delegation Order No. S1-DEL-S3-2024, effective August 30, 2024, the Secretary of Energy also delegated the authority to confirm, approve, and place such rates into effect on an interim basis to the Under Secretary for Infrastructure. By Redelegation Order No. S3-DEL-WAPA1-2023, effective April 10, 2023, the Under Secretary for Infrastructure further redelegated the authority to confirm, approve, and place such rates into effect on an interim basis to WAPA's Administrator.

Availability of Information

All brochures, studies, comments, letters, memorandums, or other documents that CRSP MC initiates or uses to develop the proposed formula rate are available for inspection and copying at the CRSP MC, located at 1800 South Rio Grande Avenue, Montrose, CO 81401. Many of these documents and supporting information are also available on WAPA's website at: www.wapa.gov/about-wapa/regions/crsp/rates/.

Ratemaking Procedure Requirements

Environmental Compliance

WAPA is in the process of determining whether an environmental assessment or an environmental impact statement should be prepared or if this action can be categorically excluded from those requirements.⁴

⁴ In compliance with the National Environmental Policy Act (NEPA) of 1969, as amended, 42 U.S.C. 4321-4347; the Council on Environmental Quality Regulations for implementing NEPA (40 CFR parts 1500-1508); and DOE NEPA Implementing Procedures and Guidelines (10 CFR part 1021).

Determination Under Executive Order 12866

WAPA has an exemption from centralized regulatory review under Executive Order 12866; accordingly, no clearance of this notice by the Office of Management and Budget is required.

Signing Authority

This document of the Department of Energy was signed on October 8, 2024, by Tracey A. LeBeau, Administrator, Western Area Power Administration, pursuant to delegated authority from the Secretary of Energy. That document, with the original signature and date, is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on October 9, 2024.
Jennifer Hartzell,
Alternate Federal Register Liaison Officer, U.S. Department of Energy.

[FR Doc. 2024-23768 Filed 10-11-24; 8:45 am]

BILLING CODE 6450-01-P